POSTAL REGULATORY COMMISSION

[Docket No. MC2024-413; Order No. 7259]

International Money Transfer Service

AGENCY: Postal Regulatory Commission.

ACTION: Notice.

SUMMARY: The Commission is recognizing a recently filed Postal Service document with the Commission concerning the removal of International Money Transfer Service-Outbound and International Money Transfer Service-Inbound from the Mail Classification Schedule. This notice informs the public of the filing, invites public comment, and takes other administrative steps.

DATES: Comments are due: August 5, 2024.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Contents of Filing

III. Commission Action

IV. Ordering Paragraphs

I. Introduction

On July 5, 2024, pursuant to 39 U.S.C. 3642 and 39 CFR 3040.130 et seq., the Postal Service filed a request to remove Mail Classification Schedule (MCS) section 2620 International Money Transfer Service (IMTS)—Outbound, effective October 1, 2024, and to remove MCS section 2625 IMTS—Inbound, effective October 1, 2025, from the Competitive product list in the MCS.¹

¹ Request of the United States Postal Service to Remove International Money Transfer Service— Outbound and International Money Transfer Service—Inbound from the Competitive Product List, July 5, 2024, at 1 (Request).

II. Contents of Filing

The Postal Service states that the removal of MCS section 2620 IMTS—Outbound, effective October 1, 2024 (Phase II), and the removal of MCS section 2625 IMTS—Inbound, effective October 1, 2025 (Phase III), from the Competitive product list in the MCS are authorized by Governors' Decision No. 24-2. Id. at 1-2. Governors' Decision No. 24-2 also authorizes the removal of prices for Sure Money (DineroSeguro) for the IMTS—Outbound product from the MCS, effective July 14, 2024 (Phase I), which the Commission approved previously in Order No. 7175.² The Postal Service includes Governors' Decision No. 24-2 and proposed changes to the MCS in legislative format in Attachment 1. Request at 2.

² Id. at 2 (citing Docket No. CP2024-230, Order Approving Changes in Classifications of General Applicability for Competitive Products, June 6, 2024, at 16 (Order No. 7175)).

The Postal Service states that the Request satisfies the requirements in 39 CFR 3040.131(a) through (f) because: (a) it includes the name and class of the products that are the subject of the request; (b) it includes a copy of the Governors' Decision supporting the request in Attachment 1; (c) it indicates that the products to be removed are from the Competitive product list; (d) it indicates that the two products to be removed are not one of the three identified categories subject to unique regulatory treatment; (e) it includes a Statement of Supporting Justification in Attachment 2, which explains why the requested changes to the MCS are not inconsistent with the applicable statutory and regulatory requirements; and (f) it includes a copy of the applicable sections of the MCS and the proposed changes in legislative format in Attachment 1. Id. at 2-3; Attachments 1 and 2.

In its Statement of Supporting Justification, the Postal Service states that the removal of the IMTS—Outbound product and the IMTS—Inbound product from the MCS will not result in the violations of the requirements in 39 U.S.C. 3633(a) for the following reasons. Id., Attachment 2 at 3-4. First, the removal of the two products is consistent with 39 U.S.C. 3633(a)(2), because the IMTS—Outbound product was already non-compliant in FY 2023 and the IMTS—Inbound product was non-compliant in prior years. Id. Their removal will eliminate the negative contribution of the two products and comply with 39 U.S.C. 3633(a)(2). Id. Second, consistent with 39 U.S.C. 3633(a)(3), their removal will not impact Competitive products' ability to collectively cover an appropriate share of the Postal Service's institutional costs, because the IMTS—Outbound product and the IMTS—Inbound product each generates a very small amount of revenue. Id. Third, consistent with 39 U.S.C. 3633(a)(1), it is unlikely that the removal of the two products that generate a very small amount of revenue would lead to the subsidization of Competitive products by Market Dominant products. Id.

In addition, the Postal Service states that its share of the market for services that are similar to international postal money orders is very small and there have been significant declines in the volume of the IMTS—Outbound and IMTS—Inbound products in recent years. Id. at 5-6. The Postal Service thus concludes that the impact of the removal of the two products on competitors is likely to be minimal. Id. at 6. Furthermore, the Postal Service states that while it has no specific views from customers about the removal of the two products, its customers have not expressed much interest in the products or availed themselves of the products for some time, which suggests that market interest among customers for these two products is “low to non-existent.” Id. Finally, the Postal Service states that there appears to be a number of entities that provide electronic money transfer services that are somewhat similar to international postal money orders, and the Postal Service's share of the market for such similar services is very small. Id. The Postal Service therefore concludes that the impact of the removal of the two products on small business concerns is “likely to be minimal.” Id. at 6-7.

III. Commission Action

The Commission establishes Docket No. MC2024-413 for consideration of matters raised by the Request.

The Commission invites comments on whether the Postal Service's filing is consistent with 39 U.S.C. 3633 and 3642 and 39 CFR 3040.130, 3040.131, and 3040.132. Comments are due no later than August 5, 2024. The public portions of the filings can be accessed via the Commission's website (http://www.prc.gov).

The Commission appoints Samuel Robinson to represent the interests of the general public (Public Representative) in this docket, pursuant to 39 U.S.C. 505.

IV. Ordering Paragraphs

It is ordered:

1. The Commission establishes Docket No. MC2024-413 for consideration of matters raised by the Postal Service's Request.

2. Pursuant to 39 U.S.C. 505, Samuel Robinson is appointed to serve as an officer of the Commission (Public Representative) to represent the interests of the general public in this proceeding.

3. Comments are due no later than August 5, 2024.

4. The Secretary shall arrange for publication of this order in the Federal Register.

By the Commission.
Erica A. Barker,
Secretary.

[FR Doc. 2024-15443 Filed 7-12-24; 8:45 am]

BILLING CODE 7710-FW-P